FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 31, 2000.

A. Federal Reserve Bank of Chicago (Phillip Jackson, Applications Officer) 230 South LaSalle Street, Chicago, Illinois 60690-1414:

1. The Garst Family (Stephen Garst, Elizabeth Garst, Edward Garst, Rachel Garst, all of Coon Rapids, Iowa; Katherine Garst, Seattle, Washington; Jennifer Garst, Takoma Park, Maryland; and Sarah Garst, West Des Moines, Iowa) and Elizabeth Garst, individually; to acquire additional voting shares of Audubon Investment Company, Coon Rapids, Iowa, and thereby indirectly acquire additional shares of Audubon State Bank, Audubon, Iowa.

2. William W. Parish, Dallas, Texas; to acquire voting shares of Parish Bank and Trust Company, Momence, Illinois.

Board of Governors of the Federal Reserve System, March 13, 2000.
Robert deV. Frierson,
Associate Secretary of the Board.

[FR Doc. 00-6596 Filed 3-16-00; 8:45 am]

BILLING CODE 6210-01-P